DEPARTMENT OF LABOR

Employment and Training Administration

[TA-W-73,319]

La-Z-Boy Casegoods, Inc.—LEA Also Known as American Drew Wilkesboro, NC; Amended Certification Regarding Eligibility To Apply for Worker Adjustment Assistance

In accordance with Section 223 of the Trade Act of 1974, as amended (“Act”), 19 U.S.C. 2273, the Department of Labor issued a Certification of Eligibility to apply for Worker Adjustment Assistance on March 19th, 2010 applicable to workers of La-Z-Boy Casegoods, Inc.-LEA, also known as American Drew, Wilkesboro, North Carolina. The notice will be published in the Federal Register soon.

At the request of the State Agency, the Department reviewed the certification for workers of the subject firm. The workers are engaged in activities related to the production of home furniture.

The review shows that on February 25, 2008, a certification of eligibility to apply for adjustment assistance was issued for all workers of La-Z-Boy Greensboro, Inc., North Wilkesboro, North Carolina, separated from employment on or after October 29, 2007 through February 25, 2010. The notice was published in the Federal Register on March 11, 2008 (73 FR 13017).

In order to avoid an overlap in worker group coverage, the Department is amending the January 8, 2009 impact date established for TA-W-73,319, to read February 26, 2010. The amended notice applicable to TA-W-73,319 is hereby issued as follows:

All workers of La-Z-Boy Casegoods, Inc.-LEA, also known as American Drew, Wilkesboro, North Carolina, who became totally or partially separated from employment on or after February 26, 2010, through March 19, 2012, and all workers in the group threatened with total or partial separation from employment on date of certification through two years from the date of certification, are eligible to apply for adjustment assistance under Chapter 2 of Title II of the Trade Act of 1974, as amended.

Signed in Washington, DC, this 8th day of April 2010.
Elliott S. Kushner,
Certifying Officer, Division of Trade Adjustment Assistance.

[FR Doc. 2010-8879 Filed 4-16-10; 8:45 am]

BILLING CODE 4510-FN-P